DEPARTMENT OF DEFENSE

Office of the Secretary

Department of Defense Draft Selection Criteria for Closing and Realigning Military Installations Inside the United States

AGENCY: Office of the Deputy Under Secretary of Defense (Installations and Environment), DoD.

ACTION: Notice.

SUMMARY: This notice publishes the draft selection criteria that will be used by the Department of Defense to make closure and realignment recommendations that will be reviewed by the 2005 Defense Base Closure and Realignment Commission.

DATES: Comments should be submitted to the Department of Defense at the address shown below by January 28, 2004, to be considered in the formulation of the final criteria.

ADDRESSES: Interested parties should submit written comments to: Office of the Deputy Under Secretary of Defense (Installations & Environment), ATTN: Mr. Peter Potochney, Director, Base Realignment and Closure, Room 3D814, the Pentagon, Washington DC, 20301-3300. Please cite this Federal Register announcement in all correspondence. Interested parties may also forward their comments via facsimile at 703-695-1496.

FOR FURTHER INFORMATION CONTACT: Mr. Mike McAndrew, Base Realignment and Closure Office, ODUSD(I&E), (703) 614-5356.

SUPPLEMENTARY INFORMATION:

A. Background

The Defense Base Closure and Realignment Act of 1990, as amended (the Act), establishes the authority by which the Secretary of Defense may close or realign military installations inside the United States. Section 2913(a) of the Act requires the Secretary of Defense to publish the selection criteria proposed to be used by the Secretary in making recommendations for the closure or realignment of military installations inside the United States by December 31, 2003, for a 30-day public comment period. Section 2913(e) requires the Secretary of Defense to publish the final selection criteria no later than February 16, 2004. The final selection criteria are subject to Congressional disapproval by Act of Congress until March 15, 2004.

B. Relationship to Previous Criteria

Since the 1991 Base Realignment and Closure (BRAC) round, the Department of Defense (DoD) has used the same, publicly accepted, selection criteria to make its closure and realignment recommendations. The Department first published these criteria for public comment in a November 30, 1990 (55 FR 49678), Federal Register notice. Based on comments received, the proposed criteria were appropriately amended. The February 15, 1991 (56 FR 6374), Federal Register notice contained an analysis of public comments received and a description of the changes DoD made to the draft criteria. Having not been disapproved by Congress, the final criteria were used to make recommendations to the 1991 Defense Base Closure and Realignment Commission. Subsequently, the DoD, in a December 15, 1992 (57 FR 59334), and a December 9, 1994 (59 FR 63769), Federal Register notice, announced that it would use the same final criteria to make recommendations to the 1993 and 1995 Defense Base Closure and Realignment Commissions, respectively.

The Act specifies that the selection criteria shall ensure that military value is the primary consideration in making closure and realignment recommendations. It also lists specific considerations that military value must include and special considerations that the selection criteria must address. The eight criteria proposed for this round were based on the accepted, tested, and proven criteria used in past BRAC rounds. These criteria now incorporate statutory requirements and stress the Department's capabilities based approach to performing missions.

C. Draft Selection Criteria

It is proposed that the Department of Defense use the following criteria in making recommendations for the closure or realignment of military installations inside the United States:

• In recommending military installations for closure or realignment, the Department of Defense will, giving priority consideration to military value (criteria 1-4), consider:

Military Value

1. The current and future mission capabilities and the impact on operational readiness of the Department of Defense's total force, including the impact on joint warfighting, training, and readiness.

2. The availability and condition of land, facilities and associated airspace (including training areas suitable for maneuver by ground, naval, or air forces throughout a diversity of climate and terrain areas and staging areas for the use of the Armed Forces in homeland defense missions) at both existing and potential receiving locations.

3. The ability to accommodate contingency, mobilization, and future total force requirements at both existing and potential receiving locations to support operations and training.

4. The cost of operations and the manpower implications.

Other Considerations

5. The extent and timing of potential costs and savings, including the number of years, beginning with the date of completion of the closure or realignment, for the savings to exceed the costs.

6. The economic impact on existing communities in the vicinity of military installations.

7. The ability of both the existing and potential receiving communities' infrastructure to support forces, missions, and personnel.

8. The environmental impact, including the impact of costs related to potential environmental restoration, waste management, and environmental compliance activities.

D. Previous Federal Register References

1. 55 FR 49678, November 30, 1990: Proposed selection criteria and request for comments.

2. 55 FR 53586, December 31, 1990: Extend comment period on proposed selection criteria.

3. 56 FR 6374, February 15, 1991: Published selection criteria and analysis of comments.

4. 57 FR 59334, December 15, 1992: Published selection criteria.

5. 59 FR 63769, December 9, 1994: Published selection criteria.

Dated: December 18, 2003.
L.M. Bynum,
Alternate OSD Federal Register Liaison Officer, Department of Defense.

[FR Doc. 03-31631 Filed 12-19-03; 10:00 am]

BILLING CODE 5001-06-P